NATIONAL AERONAUTICS AND SPACE ADMINISTRATION

[Notice 09-087]

Privacy Act of 1974; Privacy Act System of Records

AGENCY: National Aeronautics and Space Administration (NASA).

ACTION: Notice of proposed revisions to an existing Privacy Act system of records.

SUMMARY: Pursuant to the provisions of the Privacy Act of 1974 (5 U.S.C. 552a), the National Aeronautics and Space Administration is issuing public notice of its proposal to modify its existing system of records NASA 10EEOR, “Equal Opportunity Records.” System modifications are set forth below under the caption SUPPLEMENTARY INFORMATION.

DATES: Submit comments within 30 calendar days from the date of this publication. This system will be effective as proposed at the end of the comment period unless comments are received which would require a contrary determination.

ADDRESSES: Patti F. Stockman, Privacy Act Officer, Office of the Chief Information Officer, National Aeronautics and Space Administration Headquarters, Washington, DC 20546-0001, (202) 358-4787, NASA-PAOfficer@nasa.gov.

FOR FURTHER INFORMATION CONTACT: NASA Privacy Act Officer, Patti F. Stockman, (202) 358-4787, NASA-PAOfficer@nasa.gov.

SUPPLEMENTARY INFORMATION: NASA is modifying 10EEOR, as provided below, to include additional authorities for maintenance of the system of records; to better clarify the categories of individuals on whom records are maintained, the records source categories, how the records are retrieved and retained, the safeguards for protecting the records; and to specify additional routine uses.

Bobby L. German,
NASA Chief Information Officer (Acting).

NASA 10EEOR

SYSTEM NAME:

Equal Opportunity (EO) Records.

SECURITY CLASSIFICATION:

None.

SYSTEM LOCATION:

Locations 1-9, 11, and 18, as set forth in Appendix A.

CATEGORIES OF INDIVIDUALS COVERED BY THE SYSTEM:

This system maintains information on current and former employees and applicants for employment who have entered the informal counseling process, who have filed formal complaints, and who have requested reasonable accommodations.

CATEGORIES OF RECORDS IN THE SYSTEM:

Equal Employment Opportunity (EEO) informal counseling and formal complaint records; records of requests for reasonable accommodation.

AUTHORITY FOR MAINTENANCE OF THE SYSTEM:

29 U.S.C. 791 et seq., The Rehabilitation Act of 1973, as amended; 42 U.S.C. 2473; 42 U.S.C. 12101 et seq.; 44 U.S.C. 3101; Exec. Order No. 11,478 (Aug. 8, 1969), 3 CFR 803 (1966-1977), 34 FR 12,985 (Aug. 12, 1969); 29 CFR pt. 1614, Federal Sector Equal Employment Opportunity; 5 CFR pts. 1200-1202, Merit Systems Protection Board; Americans with Disabilities Act of 1990, as amended, including changes made by the ADA Amendments Act of 2008 (Pub. L. 110-325).

ROUTINE USES OF RECORDS MAINTAINED IN THE SYSTEM, INCLUDING CATEGORIES OF USERS AND THE PURPOSES OF SUCH USES:

Any disclosures of information will be compatible with the purpose for which the Agency collected the information. The following are routine uses: (1) Disclosures to the Equal Employment Opportunity Commission (EEOC) and the Merit Systems Protection Board (MSPB) to facilitate their processing of discrimination complaints, including investigations, hearings, and reviews on appeals; (2) responses to other Federal agencies and other organizations having legal and administrative responsibilities related to the NASA Office of Diversity and Equal Opportunity and to individuals in the record; (3) disclosures may be made to a Congressional office from the record of an individual in response to a written inquiry from the Congressional office made on behalf of the individual; and (4) disclosures to first aid and safety personnel, when appropriate, if the disability might require emergency treatment; (5) disclosures to Federal Government officials charged with the responsibility of investigating NASA's compliance with The Rehabilitation Act of 1973, as amended; (6) disclosures to those outside the Agency who have the expertise in determining the appropriateness of the reasonable accommodation. To the greatest extent possible, personally-identifiable information will be deleted; and (7) NASA standard routine uses as set forth in Appendix B.

POLICIES AND PRACTICES FOR STORING, RETRIEVING, ACCESSING, RETAINING, AND DISPOSING OF RECORDS IN THE SYSTEM:

STORAGE:

Records in this system are maintained as hard-copy and electronic documents.

RETRIEVABILITY:

Hard copy records are retrieved by the complainant's name. Electronic records are accessed by name, case number, nature of the complaint, or stage of the complaint in the process.

SAFEGUARDS:

Hard copy records are locked in file cabinets or in secured rooms with access limited to those whose official duties require access. Electronic data are maintained within locked areas either on disks or in electronic repositories behind approved firewalls with password protected access limited to those whose official duties require access.

RETENTION AND DISPOSAL:

Records are maintained in Agency files and can be destroyed in accordance with NPR 1441.1 NASA Records Retention Schedules, Schedule 3 Item 2.5/E.

SYSTEM MANAGER(S) AND ADDRESS:

Assistant Administrator for Diversity and Equal Opportunity, Location 1. Subsystem Managers: Center Equal Opportunity (EO) Directors/Officers, at locations 1-9, 11, and 18, as set forth in Appendix A.

NOTIFICATION PROCEDURE:

Information may be obtained from the cognizant system or subsystem managers listed above.

RECORD ACCESS PROCEDURES:

Requests from individuals should be addressed to the same address as stated in the Notification section above.

CONTESTING RECORD PROCEDURES:

The NASA regulations for access to records and for contesting contents and appealing initial determinations by the individual concerned appear at 14 CFR part 1212.

RECORD SOURCE CATEGORIES:

Individuals themselves; Assistant Administrator for Diversity and Equal Opportunity, and all designees, including NASA Center EO Directors; Center complaints managers/coordinators; EEO counselors, specialists, and investigators; EEOC officials and MSPB officials.

Appendix A

Location Numbers and Mailing Addresses of NASA Installations at Which Records Are Located

Location 1.

NASA Headquarters, National Aeronautics and Space Administration, Washington, DC 20546-0001.

Location 2.

Ames Research Center, National Aeronautics and Space Administration, Moffett Field, CA 94035-1000.

Location 3.

Dryden Flight Research Center, National Aeronautics and Space Administration, PO Box 273, Edwards, CA 93523-0273.

Location 4.

Goddard Space Flight Center, National Aeronautics and Space Administration, Greenbelt, MD 20771-0001.

Location 5.

Lyndon B. Johnson Space Center, National Aeronautics and Space Administration, Houston, TX 77058-3696.

Location 6.

John F. Kennedy Space Center, National Aeronautics and Space Administration, Kennedy Space Center, FL 32899-0001.

Location 7.

Langley Research Center, National Aeronautics and Space Administration, Hampton, VA 23681-2199.

Location 8.

John H. Glenn Research Center at Lewis Field, National Aeronautics and Space Administration, 21000 Brookpark Road, Cleveland, OH 44135-3191.

Location 9.

George C. Marshall Space Flight Center, National Aeronautics and Space Administration, Marshall Space Flight Center, AL 35812-0001.

Location 10.

HQ NASA Management Office-JPL, National Aeronautics and Space Administration, 4800 Oak Grove Drive, Pasadena, CA 91109-8099.

Location 11.

John C. Stennis Space Center, National Aeronautics and Space Administration, Stennis Space Center, MS 39529-6000.

Location 12.

JSC White Sands Test Facility, National Aeronautics and Space Administration, P.O. Drawer MM, Las Cruces, NM 88004-0020.

Location 13.

GRC Plum Brook Station, National Aeronautics and Space Administration, Sandusky, OH 44870.

Location 14.

MSFC Michoud Assembly Facility, National Aeronautics and Space Administration, P.O. Box 29300, New Orleans, LA 70189.

Location 15.

NASA Independent Verification and Validation Facility (NASA IV&V), 100 University Drive, Fairmont, WV 26554.

Location 16.

New Jersey Post of Duty, 402 East State Street, Trenton, NJ 08608.

Location 17.

Western Field Office, Glenn Anderson Federal Building, 501 West Ocean Blvd., Long Beach, CA 90802-4222.

Location 18.

NASA Shared Services Center (NSSC), Building 5100, Stennis Space Center, MS 39529-6000.

Appendix B

Standard Routine Uses—NASA

The following routine uses of information contained in SORs, subject to the Privacy Act of 1974, are standard for many NASA systems. They are cited by reference in the paragraph “Routine uses of records maintained in the system, including categories of users and the purpose of such uses” of the Federal Register Notice on those systems to which they apply.

Standard Routine Use No. 1—LAW ENFORCEMENT—In the event this system of records indicates a violation or potential violation of law, whether civil, criminal, or regulatory in nature, and whether arising by general statute or particular program statute, or by regulation, rule or order issued pursuant thereto, the relevant records in the SOR may be referred, as a routine use, to the appropriate agency, whether Federal, State, local or foreign, charged with the responsibility of investigating or prosecuting such violation or charged with enforcing or implementing the statute, or rule, regulation or order issued pursuant thereto.

Standard Routine Use No. 2—DISCLOSURE OF REQUESTED INFORMATION—A record from this SOR may be disclosed as a “routine use” to a Federal, State, or local agency maintaining civil, criminal, or other relevant enforcement information or other pertinent information, such as current licenses, if necessary to obtain information relevant to an agency decision concerning the hiring or retention of an employee, the issuance of a security clearance, the letting of a contract, or the issuance of a license, grant, or other benefit.

Standard Routine Use No. 3—DISCLOSURE OF REQUESTED INFORMATION—A record from this SOR may be disclosed to a Federal agency, in response to its request, in connection with the hiring or retention of an employee, the issuance of a security clearance, the reporting of an investigation of an employee, the letting of a contract, or the issuance of a license, grant, or other benefit by the requesting agency, to the extent that the information is relevant and necessary to the requesting agency's decision on the matter.

Standard Routine Use No. 4—DISCLOSURE TO THE DEPARTMENT OF JUSTICE FOR USE IN LITIGATION—It shall be a routine use of the records in this system of records to disclose them to the Department of Justice when (a) the Agency, or any component thereof; or (b) any employee of the Agency in his or her official capacity; or (c) any employee of the Agency in his or her individual capacity where the Department of Justice or the Agency has agreed to represent the employee; or (d) the United States, where the Agency determines that litigation is likely to affect the Agency or any of its components, is a party to litigation or has an interest in such litigation, and the use of such records by the Department of Justice or the Agency is deemed by the Agency to be relevant and necessary to the litigation provided, however, that in each case it has been determined that the disclosure is compatible with the purpose for which the records were collected.

Standard Routine Use 5—ROUTINE USE FOR AGENCY DISCLOSURE IN LITIGATION—It shall be a routine use of the records in this system of records to disclose them in a proceeding before a court or adjudicative body before which the agency is authorized to appear, when: (a) The Agency, or any component thereof; or (b) any employee of the Agency in his or her official capacity; or (c) any employee of the Agency in his or her individual capacity where the Agency has agreed to represent the employee; or (d) the United States, where the Agency determines that litigation is likely to affect the Agency or any of its components, is a party to litigation or has an interest in such litigation, and the use of such records by the Agency is deemed to be relevant and necessary to the litigation, provided, however, that in each case, the Agency has determined that the disclosure is compatible with the purpose for which the records were collected.

Standard Routine Use No. 6—SUSPECTED OR CONFIRMED CONFIDENTIALITY COMPROMISE—A record from this SOR may be disclosed to appropriate agencies, entities, and persons when (1) NASA suspects or has confirmed that the security or confidentiality of information in the system of records has been compromised; (2) NASA has determined that as a result of the suspected or confirmed compromise there is a risk of harm to economic or property interests, identity theft or fraud, or harm to the security or integrity of this system or other systems or programs (whether maintained by NASA or another agency or entity) that rely upon the compromised information; and (3) the disclosure made to such agencies, entities, and persons is reasonably necessary to assist in connection with NASA's efforts to respond to the suspected or confirmed compromise and prevent, minimize, or remedy such harm.

[FR Doc. E9-23497 Filed 9-29-09; 8:45 am]

BILLING CODE 7510-13-P